DEPARTMENT OF TRANSPORTATION

National Highway Traffic Safety Administration

[Docket No. NHTSA-99-6187; Notice 2]

Athey Products Corporation, Grant of Application for Decision That Noncompliance Is Inconsequential to Motor Vehicle Safety

Athey Products Corporation (Athey) determined that certain Mobil model Street Sweepers it produced are not in full compliance with 49 CFR 571.105, Federal Motor Vehicle Safety Standard (FMVSS) No. 105, “Hydraulic and Electric Brake Systems,” and filed an appropriate report pursuant to 49 CFR Part 573, “Defect and Noncompliance Reports.” Athey also applied to be exempted from the notification and remedy requirements of 49 U.S.C. Chapter 301—“Motor Vehicle Safety” on the basis that the noncompliance is inconsequential to motor vehicle safety.

Notice of receipt of an application was published, with a 30-day comment period, on October 21, 1999 in the Federal Register (64 FR 56835). NHTSA received no comments on this application during the comment period.

Paragraph S5.5 of FMVSS No. 105 requires each vehicle with a gross vehicle weight rating greater than 10,000 pounds, except for a vehicle with a speed attainable in 2 miles of not more than 33 mph, to be equipped with an antilock brake system (ABS) that directly controls the wheels of at least one front axle and the wheels of at least one rear axle of the vehicle. Vehicles that do not comply with the requirements of a FMVSS are subject to the notification and remedy requirements of Chapter 301, unless exempted pursuant to 49 U.S.C. 30118(d) and 30120(h) on the basis that the noncompliance is inconsequential to motor vehicle safety. The effective date of the requirement for ABS on medium and heavy duty hydraulically-braked trucks was March 1, 1999.

Between March 1, 1999 and July 31, 1999 Athey manufactured, sold and/or distributed 21 Athey Mobil M8A model street sweepers and 56 Mobil M9D model street sweepers which were not equipped with ABS as required by FMVSS No. 105. To the best of Athey's knowledge, there were no other vehicles manufactured by the company that are noncompliant with the ABS requirements.

Athey supported its application by stating that the agency recognized that vehicle stopping distances and stability would not be substantially improved with ABS during maximum braking at speeds below 33 mph. According to Athey, the noncompliant vehicles are capable of speeds in excess of 33 mph, but spend the majority of their operating time at speeds below 33 mph. A review of information from its customers indicated that these street sweepers spend 80% to 90% of their operation time at speeds that are most effective at removal of road debris, speeds in the 3 to 7 mph range. In Athey's opinion, due to the low speed operation of these vehicles and the type of road use of street sweepers, maximum brake application does not normally cause lockup and the subsequent loss of vehicle control or jack knifing. Athey also stated that these street sweeper models are seldom operated in inclement weather thereby reducing the need for ABS.

Athey further stated that the hydraulic service brake system with which the noncompliant street sweepers are equipped is capable of providing substantially more brake torque than necessary to meet the 30 mph and 60 mph stopping performance requirements in FMVSS No. 105.

In addition to information supporting its arguments that the noncompliance with FMVSS No. 105 is inconsequential, Athey cited several other developments and circumstances that it considered relevant to its application. Athey stated that it attempted to secure the necessary ABS equipment from suppliers in order to meet the March 1, 1999 effective date for ABS installation, but experienced delays in receiving ABS equipment from suppliers due to a backlog of orders for ABS components. Further, immediately upon becoming aware of the consequences of the noncompliance, Athey halted all further sales and/or distribution of the Mobil model M8A and M9D street sweepers until compliance with the ABS requirements was achieved.

According to Athey, the importance of the service provided by street sweepers on public and private roadways should not be overlooked. The removal of waste material such as broken glass and other sharp, potentially dangerous objects from the roadway is a health and safety benefit.

Athey also noted that the agency granted a temporary exemption to the Johnson Sweeper Company (JSC) under 49 CFR part 555 from the ABS requirements of FMVSS No. 105. The agency cited the low speed operation of the JSC street sweepers and a reduction in the number of sweepers to fill the need of municipalities if JSC sweepers were not available, as important factors in its decision.

Upon its review of this petition, the agency believes that the true measure of inconsequentiality to motor vehicle safety is the effect of the noncompliance on the operation of the vehicles. Athey has described the effect of the absence of ABS on the operational characteristics, the braking capacity, and the braking stability of these specialized vehicles. The street sweepers spend the majority of their operating time at speeds in the 3 to 7 mph range for maximum debris removal effectiveness, speeds well below the vehicle speed capability for which ABS installation is required or effective. During low speed operation, maximum braking does not generally result in wheel lockup and the subsequent potential for loss of vehicle control. These street sweepers are seldom operated in inclement weather, which further reduces the need for ABS.

Athey stated that the company has reviewed its manufacturing process, determined the cause of the noncompliance with the ABS requirements of FMVSS No. 105, and taken corrective measures to eliminate this type of noncompliance in the future.

In consideration of the foregoing, NHTSA has decided that the applicant has met its burden of persuasion that the noncompliance it describes is inconsequential to safety. Accordingly, its application is granted, and the applicant is exempted from providing the notification of the noncompliance that is required by 49 U.S.C. 30118, and from remedying the noncompliance, as required by 49 U.S.C. 30120.

(49 U.S.C. 30118, 30120; delegations of authority of 49 CFR 1.50 and 501.8)
Issued on: July 17, 2000.
Stephen R. Kratzke,
Associate Administrator for Safety Performance Standards.

[FR Doc. 00-18514 Filed 7-20-00; 8:45 am]

BILLING CODE 4910-59-P